DEPARTMENT OF TRANSPORTATION

Federal Motor Carrier Safety Administration

[Docket No. FMCSA-2005-21083]

Notice of Request for Extension of a Currently Approved Data Collection: Licensing Applications for Motor Carrier Operating Authority

AGENCY: Federal Motor Carrier Safety Administration (FMCSA), DOT.

ACTION: Notice and request for comments.

SUMMARY: In accordance with the Paperwork Reduction Act of 1995 (44 U.S.C. 3501 et seq.), this notice announces that the Information Collection Request (ICR) abstracted below has been forwarded to the Office of Management and Budget (OMB) for approval and comment. The ICR describes the nature of the information collection and it's expected cost and burden. On January 12, 2005, FMCSA published a Federal Register notice (70 FR 2210) with a 60-day comment period to solicit the public's views on the information collection noted below. FMCSA received three comments expressing concerns about the substance abuse professional (SAP) services that are available to applicants, the need to augment the information required of new applicants on the Form OP-1, and the desire to obtain administrative reforms to eliminate unnecessary paperwork burdens. These comments were submitted to the appropriate FMCSA program managers for consideration and action.

DATES: Comments must be submitted on or before July 21, 2005. A comment to OMB is most effective if OMB receives it within 30 days of this publication.

ADDRESSES: You may submit comments identified by Docket Number FMCSA-2005-21083 by any of the following methods:

• Web site: http://dms.dot.gov.

Follow the instructions for submitting comments on the DOT electronic docket site.

• Fax: 1-202-493-2251.

• Mail: Docket Management System (DMS) Facility, U.S. Department of Transportation, 400 Seventh Street, SW., Nassif Building, Room PL-401, Washington, DC 20590-0001.

• Hand Delivery: Room PL-401 on plaza level of the Nassif Building, 400 Seventh Street, SW., Washington DC, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking process. Note that all comments received will be posted without change to http://dms.dot.gov including any personal information provided. Please see the Privacy Act heading under Regulatory Notes.

Docket: For access to the docket to read background documents or comments received, go to http://dms.dot.gov at any time or to Room PL-401 on the plaza level of the Nassif Building, 400 Seventh Street, SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 at 65 FR 19477 or you may visit http://dms.dot.gov.

FOR FURTHER INFORMATION CONTACT: Ms. Angeli Sebastian, Division Chief, Information Systems, (202) 366-4023, Federal Motor Carrier Safety Administration (MC-RIS), 400 7th Street SW., Suite 8214, Washington, DC 20590. Office hours are from 7 a.m. to 4:30 p.m., e.t., Monday through Friday, except Federal holidays.

SUPPLEMENTARY INFORMATION: Title: “Licensing Applications for Motor Carrier Operating Authority,” formerly titled “Revision of Licensing Application Forms, Application Procedures, and Corresponding Regulations.”

OMB Control Number: 2126-0016.

Type of Request: Extension of a currently-approved data collection.

Abstract: The FMCSA is authorized to register for-hire motor carriers of regulated commodities and of passengers under the provisions of 49 U.S.C. 13902(a); freight forwarders under the provisions of 49 U.S.C. 13903; property brokers under the provisions of 49 U.S.C. 13904; and certain Mexican motor carriers under the provisions of 49 U.S.C. 13902(c) and the North American Free Trade Agreement (NAFTA) motor carrier access provision. The forms used to apply for registration authority with the FMCSA are: Form OP-1 for motor property carriers and brokers; Form OP-1(P) for motor passenger carriers; Form OP-1(FF) for freight forwarders; and Form OP-1(MX) for those Mexican motor carriers that will file applications to operate within the United States beyond the U.S.-Mexico border municipalities and commercial zones. These forms request information on the applicant's identity, location, familiarity with safety requirements, ability to meet the minimum financial responsibility requirements, and type of transportation operations the registrant plans to provide. There are some differences on the forms due to specific statutory standards for registration of the different types of transportation entities.

Respondents: Motor carriers, freight forwarders, brokers and certain Mexican motor carriers.

Estimated Number of Respondents: 21,262.

Average Burden Per Response: The current estimated average time to complete the OP-1, OP-1(P) and OP-1 (FF) registration application forms is 2 hours each, and 4 hours to complete the OP-1(MX) form.

Estimated Total Annual Burden: The estimated total annual burden is 55,738 hours.

Comments are invited on: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. All responses to this notice will be summarized and included in the request for OMB approval.

Authority: The Paperwork Reduction Act of 1995, 44 U.S.C. Chapter 35, as amended; 49 U.S.C. 13902, 13903 and 13904; and 49 CFR 1.73.

Issued on: June 13, 2005.
Annette M. Sandberg,
Administrator.

[FR Doc. 05-12112 Filed 6-20-05; 8:45 am]

BILLING CODE 4910-EX-P